Title 3—

The President

Executive Order 13826 of March 7, 2018

Federal Interagency Council on Crime Prevention and Improving Reentry

By the authority vested in me as President by the Constitution and the laws of the United States of America, and in order to maximize the impact of Federal Government resources to keep our communities safe, it is hereby ordered as follows:

Section 1. Purpose. The Federal Government must reduce crime, enhance public safety, and increase opportunity, thereby improving the lives of all Americans. In 2016, the violent crime rate in the United States increased by 3.4 percent, the largest single-year increase since 1991. Additionally, in 2016, there were more than 17,000 murders and nonnegligent manslaughters in the United States, a more than 20 percent increase in just 2 years. The Department of Justice, alongside State, local, and tribal law enforcement, has focused its efforts on the most violent criminals. Preliminary statistics indicate that, in the last year, the increase in the murder rate slowed and the violent crime rate decreased.

To further improve public safety, we should aim not only to prevent crime in the first place, but also to provide those who have engaged in criminal activity with greater opportunities to lead productive lives. The Federal Government can assist in breaking this cycle of crime through a comprehensive strategy that addresses a range of issues, including mental health, vocational training, job creation, after-school programming, substance abuse, and mentoring. Incarceration is necessary to improve public safety, but its effectiveness can be enhanced through evidence-based rehabilitation programs. These efforts will lower recidivism rates, ease incarcerated individuals' reentry into the community, reduce future incarceration costs, and promote positive social and economic outcomes.

Sec. 2. Policy. It is the policy of the United States to prioritize efforts to prevent youths and adults from entering or reentering the criminal justice system. While investigating crimes and prosecuting perpetrators must remain the top priority of law enforcement, crime reduction policy should also include efforts to prevent crime in the first place and to lower recidivism rates. These efforts should address a range of social and economic factors, including poverty, lack of education and employment opportunities, family dissolution, drug use and addiction, mental illness, and behavioral health conditions. The Federal Government must harness and wisely direct its considerable resources and broad expertise to identify and help implement improved crime prevention strategies, including evidence-based practices that reduce criminal activity among youths and adults. Through effective coordination among executive departments and agencies (agencies), the Federal Government can have a constructive role in preventing crime and in ensuring that the correctional facilities in the United States prepare inmates to successfully reenter communities as productive, law-abiding members of society.

Sec. 3. Establishment of the Federal Interagency Council on Crime Prevention and Improving Reentry. (a) There is hereby established the Federal Interagency Council on Crime Prevention and Improving Reentry (Council), co-chaired by the Attorney General, the Assistant to the President for Domestic Policy, and the Senior Advisor to the President in charge of the White House Office of American Innovation, or their respective designees. In addition to the Co-Chairs, the Council shall include the heads of the following entities, or their designees:

(i) The Department of the Treasury;

(ii) The Department of the Interior;

(iii) The Department of Agriculture;

(iv) The Department of Commerce;

(v) The Department of Labor;

(vi) The Department of Health and Human Services;

(vii) The Department of Housing and Urban Development;

(viii) The Department of Education;

(ix) The Department of Veterans Affairs;

(x) The Office of Management and Budget; and

(xi) The Office of National Drug Control Policy.

(b) As appropriate, and consistent with applicable law, the Co-Chairs may invite representatives of other agencies and Federal entities to participate in the activities of the Council.

(c) As appropriate, the Co-Chairs may invite representatives of the judicial branch to attend and participate in meetings of the Council.

(d) The Council shall engage with Federal, State, local, and tribal officials, including correctional officials, to carry out its objectives. The Council shall also engage with key stakeholders, such as law enforcement, faith-based and community groups, businesses, associations, volunteers, and other stakeholders that play a role in preventing youths and adults from entering or reentering the criminal justice system.

(e) The Attorney General, in consultation with the Co-Chairs, shall designate an Executive Director, who shall be a full-time officer or employee of the Department of Justice, to coordinate the day-to-day functions of the Council.

(f) The Co-Chairs shall convene a meeting of the Council once per quarter.

(g) The Department of Justice shall provide such funding and administrative support for the Council, to the extent permitted by law and within existing appropriations, as may be necessary for the performance of its functions.

(h) To the extent permitted by law, including the Economy Act (31 U.S.C. 1535), and within existing appropriations, other agencies may detail staff to the Council, or otherwise provide administrative support, in order to advance the Council's functions.

(i) The heads of agencies shall provide, as appropriate and to the extent permitted by law, such assistance and information as the Council may request to implement this order.

Sec. 4. Recommendations and Report. (a) The Council shall develop recommendations for evidence-based programmatic and other reforms, with consideration and acknowledgment of potential resource limitations, to:

(i) help prevent, through programs that reduce unlawful behavior (such as mental and behavioral health services), youths and adults from engaging in criminal activity;

(ii) improve collaboration between Federal, State, local, and tribal governments through dissemination of evidence-based best practices to reduce the rate of recidivism. In identifying these practices, the Council shall consider factors such as:

(A) inmates' access to education, educational testing, pre-apprenticeships, apprenticeships, career and technical education training, and work programs;

(B) inmates' access to mentors and mentorship services during incarceration and as they transition back into the community;

(C) inmates' access to mental and behavioral health services;

(D) treatment of substance abuse and addiction for inmates;

(E) documented trauma history assessments, victim services, violent crime prevention, community-based trauma-informed programs, and domestic violence and sexual violence support services;

(F) family support for inmates;

(G) available partnerships with law enforcement, faith-based and other community organizations, businesses, associations, and other stakeholders, especially through indirect funding mechanisms; and

(H) incentives for the private sector, small businesses, and other nongovernmental entities to create job opportunities for individuals, before and after they enter the criminal justice system, using existing tax credit programs;

(iii) analyze effective ways to overcome barriers or disincentives to participation in programs related to education, housing, job placement and licensing, and other efforts to re-integrate offenders into society;

(iv) enhance coordination and reduce duplication of crime-prevention efforts across the Federal Government in order to maximize effectiveness and reduce costs to the taxpayer; and

(v) facilitate research in the areas described in this subsection, including improved access to data for research and evaluation purposes.

(b) The Council shall develop and present to the President, through the Assistant to the President for Domestic Policy:

(i) an initial report, submitted within 90 days of the date of this order, outlining a timeline and steps that will be taken to fulfill the requirements of this order; and

(ii) a full report detailing the Council's recommendations, submitted within 1 year of the date of this order, and status updates on their implementation for each year this order is in effect. The Council shall review and update its recommendations periodically, as appropriate, and shall, through the Assistant to the President for Domestic Policy, present to the President any updated findings.

Sec. 5. Revocation. The Presidential Memorandum of April 29, 2016 (Promoting Rehabilitation and Reintegration of Formerly Incarcerated Individuals), is hereby revoked.

Sec. 6. Termination. This order (with the exceptions of sections 5 and 7) and the Council it establishes shall terminate 3 years after the date of this order.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 7, 2018.

[FR Doc. 2018-05113

Filed 3-9-18; 11:15 am]

Billing code 3295-F8-P